NATIONAL SCIENCE FOUNDATION

National Science Board

NSB Public Service Award Committee; Notice of Meeting

In accordance with the Federal Advisory committee Act (Pub. L. 92-463, as amended), the National Science Foundation announces the following meeting:

Name: NSB Public Service Award Committee (5195).

Date/Time: Tuesday, March 7, 2000, 1:00- 3:00 p.m. EST (teleconference meeting).

Place: National Science Foundation, Arlington, Virginia.

Type of Meeting: Closed.

Contact Person: Susan E. Fannoney, Executive Secretary, Room 1220, National Science Foundation, 4201 Wilson Blvd, Arlington, VA 22230. Telephone: 703/306-1096.

Purpose of Meeting: To provide advice and recommendations in the selection of the NSB Public Service Award recipient.

Agenda: To review and evaluate nominations as part of the selection process for awards.

Reason for Closing: the nominations being reviewed include information of a personal nature where disclosure would constitute unwarranted invasions of personal privacy. These matters are exempt under 5 U.S.C. 552b(c)(6) of the Government in the Sunshine Act.

Dated: February 23, 2000.
Karen J. York,
Committee Management Officer,

[FR Doc. 00-4708 Filed 2-28-00; 8:45 am]

BILLING CODE 7555-01-M